OFFICE OF THE UNITED STATES TRADE REPRESENTATIVE

Free Trade Agreements; Invitation for Applications for Inclusion on Dispute Settlement Rosters for the U.S.-Chile Free Trade Agreement (“FTA”), the Dominican Republic-Central America-United States FTA, the North American FTA, and the U.S.-Peru Trade Promotion Agreement

AGENCY: Office of the United States Trade Representative (“USTR”).

ACTION: Invitation for Applications.

SUMMARY: A number of trade agreements to which the United States is a party call for the parties to establish rosters of persons available to serve on dispute settlement panels to hear disputes under those agreements. These agreements include the United States-Chile Free Trade Agreement, the Dominican Republic-Central America-United States Free Trade Agreement (“CAFTA-DR”), the North American Free Trade Agreement (“NAFTA”), and the United States-Peru Trade Promotion Agreement. In some instances, an agreement will call for the establishment of more than one roster. For example, the CAFTA-DR requires the establishment of four rosters of individuals who would be available to serve as panelists in dispute settlement proceedings arising under that agreement: a general roster and rosters for disputes concerning financial services, labor, and environment matters. USTR is inviting interested persons to apply to be on one or more of these several rosters under the various agreements.

DATES: Applications should be received no later than March 15, 2010 to be assured of consideration.

ADDRESSES: Applications should be submitted electronically to http://www.regulations.gov, docket number USTR-2010-0007. If you are unable to submit an application using http://www.regulations.gov, please contact Sandy McKinzy at (202) 395-9483 to arrange for an alternative method of transmission.

FOR FURTHER INFORMATION CONTACT: For information regarding the form of the application, contact Sandy McKinzy, Legal Technician, USTR Office of Monitoring and Enforcement, at (202) 395-3582. For other inquiries, contact María L. Pagán, Associate General Counsel, at (202) 395-7305 (for the U.S.-Chile FTA and U.S.-Peru TPA), Leigh Bacon, Associate General Counsel, at (202) 395-5859 (for the CAFTA-DR), and Suzanne Garner, Assistant General Counsel, at (202) 395-9663 (for the NAFTA).

SUPPLEMENTARY INFORMATION: USTR is seeking applications from interested persons to serve on any of the rosters under any of the listed agreements. The details for how to apply are provided below as is a short description of the rosters for each agreement. A person is free to apply for a single roster or any combination of rosters. Through this Federal Register Notice, USTR will accept applications from U.S. citizens and nationals of other countries.

Dispute Settlement Mechanism of U.S.-Chile Free Trade Agreement

The Chile FTA sets out detailed procedures for the resolution of disputes over compliance with the obligations set out in the agreement. Dispute settlement involves three stages: (1) Lower level consultations between the Parties to try to arrive at a mutually satisfactory resolution of the matter; (2) cabinet-level consultations; and, (3) resort to a neutral panel to make a determination as to whether a Party is in compliance with its obligations under the agreement. The panel is composed of three individuals chosen by the Parties.

The Chile FTA requires the establishment of a general dispute settlement roster from which panelists shall normally be selected. The roster must be comprised of at least 20 individuals, six of whom should be non-nationals of either Party. Once established, the roster remains in effect for a minimum of three years. See Chile FTA, Article 22.7. The Chile FTA also requires the establishment of three additional rosters, one each for disputes under the Financial Services Chapter (Chapter Twelve), the Labor Chapter (Chapter Eighteen), and the Environment Chapter (Chapter Nineteen). The financial services roster must be comprised of up to 10 individuals, up to four of whom must be non-nationals of either Party. See Chile FTA, Article 12.17. The labor roster must be comprised of up to 12 individuals, four of whom must be non-nationals of either Party. See Chile FTA, Article 18.7. The environment roster must be comprised of at least 12 individuals, four of whom must be non-nationals of either Party. See Chile FTA, Article 19.7.

Upon each request for establishment of a panel, potential panelists will be requested to complete a disclosure form, which will be used to identify possible conflicts of interest or appearances thereof. The disclosure form requests information regarding financial interests and affiliations, including information regarding the identity of clients of the potential panelist and, if applicable, clients of the potential panelist's firm.

The text of the Chile FTA can be found through the Office of the U.S. Trade Representative Web site (http://www.ustr.gov/trade-agreements/free-trade-agreements).

Criteria for Eligibility for Qualification as Panelist

To qualify as a panelist for the general roster an individual must: (1) Have expertise or experience in law, international trade, other matters covered by the Agreement, or the resolution of disputes arising under international trade agreements; (2) be objective, reliable, and possess sound judgment; (3) be independent of, and not be affiliated with or take instructions from any Party; and (4) comply with a code of conduct.

To qualify as a panelist for the financial services roster an individual must have expertise or experience in financial services law or practice, which may include the regulation of financial institutions, and meet the qualifications set out in (2) through (4) above.

To qualify as a panelist for the labor roster an individual must have expertise or experience in labor law or its enforcement, or in the resolution of disputes arising under international agreements, and meet the qualifications set out in (2) through (4) above.

To qualify as a panelist for the environment roster an individual must have expertise or experience in environmental law or its enforcement, international trade, or the resolution of disputes arising under international trade agreements, and meet the qualifications set out in (2) through (4) above.

Dispute Settlement Under the Dominican Republic-Central America-United States Free Trade Agreement

The CAFTA-DR is a plurilateral agreement in force between the United States, Costa Rica, the Dominican Republic, El Salvador, Guatemala, Honduras, and Nicaragua (“CAFTA-DR Parties”). The CAFTA-DR sets out detailed procedures for the resolution of disputes arising under the Agreement. Dispute settlement involves three stages: (1) Lower level consultations between the disputing CAFTA-DR Parties to try to arrive at a mutually satisfactory resolution of the matter; (2) cabinet-level consultations between the disputing CAFTA-DR Parties; and, (3) resort to a neutral panel to make a determination regarding the matter at issue between the disputing CAFTA-DR Parties. The panel is composed of three individuals chosen by the disputing CAFTA-DR Parties.

The CAFTA-DR requires the establishment of a general dispute settlement roster from which panelists shall normally be selected. The roster is to be composed of up to 70 individuals, up to 14 of whom are to be individuals who are not a national of any CAFTA-DR Party. Once established, the roster remains in effect for a minimum of three years. See CAFTA-DR Article 20.7. The CAFTA-DR also requires the establishment of three additional rosters, one each for disputes arising under Chapter Twelve (Financial Services), Chapter Sixteen (Labor), and Chapter Seventeen (Environment). Each of these three rosters shall remain in effect for a minimum of three years and is to be composed of up to 28 individuals, up to seven of whom are to be individuals who are not a national of any CAFTA-DR Party. See CAFTA-DR Articles 12.18, 16.7, and 17.11.

Upon each request for establishment of a panel, potential panelists may be requested to complete a disclosure form, which could be used to identify possible conflicts of interest or appearances thereof. The disclosure form may request information regarding financial interests and affiliations, including information regarding the identity of clients of the potential panelist and, if applicable, clients of the potential panelist's firm.

The text of the CAFTA-DR can be found through the Office of the U.S. Trade Representative Web site (http://www.ustr.gov/trade-agreements/free-trade-agreements).

Criteria for Eligibility for Inclusion on a CAFTA-DR Roster

To qualify for inclusion on the general roster an applicant must: (1) Have expertise or experience in law, international trade, other matters covered by the Agreement, or the resolution of disputes arising under international trade agreements; (2) be objective, reliable, and possess sound judgment; (3) be independent of, and not be affiliated with or take instructions from any CAFTA-DR Party; and (4) comply with a code of conduct.

To qualify for inclusion on the financial services roster an applicant must have expertise or experience in financial services law or practice, which may include the regulation of financial institutions, and meet the qualifications set out in (2) through (4) above.

To qualify for inclusion on the labor roster an applicant must have expertise or experience in labor law or its enforcement, international trade, or the resolution of disputes arising under international agreements, and meet the qualifications set out in (2) through (4) above.

To qualify for inclusion on the environment roster an applicant must have expertise or experience in environmental law or its enforcement, international trade, or the resolution of disputes arising under international trade or environmental agreements, and meet the qualifications set out in (2) through (4) above.

The United States seeks applications for inclusion on the rosters from qualified persons.

Dispute Settlement under NAFTA Chapter Twenty

Procedures under Chapter Twenty of the NAFTA apply to the avoidance or settlement of most types of disputes between the Parties arising under the NAFTA. If the NAFTA Parties cannot settle a dispute through consultations, they may convene a dispute settlement panel to consider the matter.

Chapter Twenty Roster and Composition of Panels

Article 2009 of the NAFTA provides for a roster of up to 30 persons to serve on Chapter Twenty dispute settlement panels. A separate five-member panel is formed for each dispute. Panelists normally are selected from the roster (although non-roster panelists may be selected, for instance, when a dispute involves a matter for which a particular expertise not reflected on the roster would be helpful). For each case, roster members under consideration to serve as a panelist will be requested to complete a disclosure form, which is used to identify possible conflicts of interest or appearances thereof. The disclosure form requests information regarding financial interests and affiliations, including information regarding the identity of any clients the roster member may have and, if applicable, clients of the roster member's firm.

Criteria for Eligibility for Inclusion on Chapter Twenty Roster

Article 2009 provides that roster members shall (1) have expertise or experience in law, international trade, other matters covered by the NAFTA or the resolution of disputes arising under trade agreements, and shall be chosen strictly on the basis of objectivity, reliability and sound judgment; (2) be independent of, and not be affiliated with or take instructions from, any Party; and (3) comply with the code of conduct for Chapter Twenty panelists.

The text of the NAFTA can be found through the Office of the U.S. Trade Representative Web site (http://www.ustr.gov/trade-agreements/free-trade-agreements).

Dispute Settlement under the United States-Peru Trade Promotion Agreement

The PTPA is a bilateral agreement in force between the United States and Peru (the “Parties”). The PTPA sets out detailed procedures for the resolution of disputes arising under the Agreement. Dispute settlement involves three stages: (1) Lower level consultations between the Parties to try to arrive at a mutually satisfactory resolution of the matter; (2) cabinet-level consultations between the Parties; and, (3) resort to a neutral panel to make a determination regarding the matter at issue between the Parties. The panel is composed of three individuals chosen by the Parties.

The PTPA requires the establishment of an indicative roster from which panelists may be selected by lot if the Parties have otherwise failed to appoint panelists. The indicative roster is to be composed of eight individuals, two of whom are to be individuals who are not a national of either Party. Once established, the roster remains in effect for a minimum of three years. See PTPA Articles 21.7 and 21.9.

Upon each request for establishment of a panel, potential panelists may be requested to complete a disclosure form, which could be used to identify possible conflicts of interest or appearances thereof. The disclosure form may request information regarding financial interests and affiliations, including information regarding the identity of clients of the potential panelist and, if applicable, clients of the potential panelist's firm.

The text of the PTPA can be found through the Office of the U.S. Trade Representative Web site (http://www.ustr.gov/trade-agreements/free-trade-agreements).

Criteria for Eligibility for Inclusion on the PTPA Indicative Roster

To qualify for inclusion on the indicative roster an applicant must: (1) Have expertise or experience in law, international trade, other matters covered by the Agreement, or the resolution of disputes arising under international trade agreements; (2) be objective, reliable, and possess sound judgment; (3) be independent of, and not be affiliated with or take instructions from either Party; and (4) comply with a code of conduct.

The United States seeks applications for inclusion on the indicative roster from qualified persons.

Procedures for Selection of Roster Members

An interagency committee chaired by USTR prepares a preliminary list of candidates eligible for inclusion on the various rosters. After consultation with the Committee on Ways and Means of the House of Representatives and the Committee on Finance of the Senate, USTR selects the final list of individuals that the United States will nominate for inclusion on the rosters. The members of a roster under a particular agreement are appointed by consensus of the parties to the agreement.

Applications

Eligible individuals who wish to be considered for inclusion on one or more of the rosters are invited to submit applications. Persons who previously submitted an application for a CAFTA-DR roster in response to the April 13, 2009 Federal Register Notice do not need to re-submit their application, but should simply indicate that they remain interested, should update any information in that application, and should indicate whether they also wish to be considered for any other roster under this notice.

Persons submitting applications should submit one copy electronically to http://www.regulations.gov, docket number USTR-2010-0007. If you are unable to submit an application using http://www.regulations.gov, please contact Sandy McKinzy at (202) 395-9483 to arrange for an alternative method of transmission.

Applications must be typewritten, and should be headed “Application for Inclusion on a Roster.” Applicants must specify for which of the agreements and, where applicable, for which roster under the agreement they wish to be considered (for example, General, Financial Services, Labor, or Environment). Applicants may specify more than one roster. Applications should include the following information, and each section of the application should be numbered as indicated:

1. Name of the applicant.

2. Business address, telephone number, fax number, and e-mail address.

3. Citizenship(s).

4. Current employment, including title, description of responsibility, and name and address of employer.

5. Relevant education and professional training.

6. Spanish or French language fluency, written and spoken.

7. Post-education employment history, including the dates and addresses of each prior position and a summary of responsibilities.

8. Relevant professional affiliations and certifications, including, if any, current bar memberships in good standing.

9. A list and copies of publications, testimony, and speeches, if any, concerning the relevant area of expertise. Judges or former judges should list relevant judicial decisions. Only one copy of publications, testimony, speeches, and decisions need be submitted.

10. A list of international trade proceedings or domestic proceedings relating to international trade matters or other relevant matters in which the applicant has provided advice to a party or otherwise participated.

11. Summary of any current and past employment by, or consulting or other work for, the Government of the United States and the Government(s) of the other party(ies) to each agreement for which the applicant is applying (i.e., Canada, Chile, Costa Rica, the Dominican Republic, El Salvador, Guatemala, Honduras, Mexico, Nicaragua, or Peru).

12. The names and nationalities of all foreign principals for whom the applicant is currently or has previously been registered pursuant to the Foreign Agents Registration Act, 22 U.S.C. 611 et seq., and the dates of all registration periods.

13. A short statement of qualifications and availability for service on dispute settlement panels under the relevant agreement, including information relevant to the applicant's familiarity with international trade law and relevant area(s) for the roster(s) for which the applicant seeks to be considered, and willingness and ability to make time commitments necessary for service on panels.

14. On a separate page, the names, addresses, telephone and fax numbers of three individuals willing to provide information concerning the applicant's qualifications for service, including the applicant's character, reputation, reliability, judgment, and familiarity with the relevant area of expertise.

Public Disclosure

Applications normally will not be subject to public disclosure and will not be posted publicly on http://www.regulations.gov. Applications may be shared with other agencies, the Committee on Ways and Means of the House of Representatives, the Committee on Finance of the Senate, and the Government(s) of the other Party(ies) for their consideration in determining whether to appoint persons to the rosters.

False Statements

False statements by an applicant regarding his or her personal or professional qualifications, or financial or other relevant interests that bear on the applicant's suitability for placement on a roster or appointment to a panel are subject to criminal sanctions under 18 U.S.C. 1001.

Paperwork Reduction Act

This notice contains a collection of information provision subject to the Paperwork Reduction Act (“PRA”) that has been approved by the Office of Management and Budget (“OMB”). Notwithstanding any other provision of law, no person is required to respond to nor shall a person be subject to a penalty for failure to comply with a collection of information subject to the requirements of the PRA unless that collection of information displays a currently valid OMB number. This notice's collection of information burden is only for those persons who wish voluntarily to apply for inclusion on a roster. It is expected that the collection of information burden will be under three hours. This collection of information contains no annual reporting or recordkeeping burden. This collection of information was approved by OMB under OMB Control Number 0350-0014. Please send comments regarding the collection of information burden or any other aspect of the information collection to USTR at http://www.regulations.gov.

Privacy Act

The following statements are made in accordance with the Privacy Act of 1974, as amended (5 U.S.C. 552a). Provision of the information requested above is voluntary; however, failure to provide the information will preclude consideration as a candidate for inclusion on a roster. This information is maintained in a system of records entitled “Dispute Settlement Panelists Roster.” Notice regarding this system of records was published in the Federal Register on November 30, 2001. The information provided is needed, and will be used by USTR, other Federal government trade policy officials concerned with dispute settlement under the relevant agreement, and officials of the other Party(ies) to select well-qualified individuals for inclusion on the rosters and for service on dispute settlement panels.

Daniel E. Brinza,
Senior Counsel for Dispute Settlement.

[FR Doc. 2010-1778 Filed 1-27-10; 8:45 am]

BILLING CODE 3190-W0-P